DEPARTMENT OF COMMERCE

International Trade Administration

[A-588-810]

Mechanical Transfer Presses From Japan: Final Results of Antidumping Duty Administrative Review

AGENCY: Import Administration, International Trade Administration, U.S. Department of Commerce.

ACTION: Notice of Final Results and Partial Recission of the Antidumping Duty Administrative Review of Mechanical Transfer Presses From Japan.

SUMMARY: On March 6, 2000, the Department of Commerce (the Department) published the preliminary results of its administrative review of the antidumping duty order on mechanical transfer presses (MTPs) from Japan. This review covers one manufacturer/exporter of MTPs during the period February 1, 1998 through January 31, 1999. We gave interested parties an opportunity to comment on our preliminary results.

Based on our analysis of the comments received, we have made certain changes in these margin calculations. Therefore, the final results differ from the preliminary results. The final weighted-average dumping margin for the reviewed firm is listed below in the section entitled “Final Results of Review.”

EFFECTIVE DATE: July 12, 2000.

FOR FURTHER INFORMATION CONTACT: Michael Strollo at (202) 482-5255 or Maureen Flannery at (202) 482-3020, Import Administration, International Trade Administration, U.S. Department of Commerce, 14th Street and Constitution Avenue, N.W., Washington, DC 20230.

SUPPLEMENTARY INFORMATION:

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (1999).

Background

On March 6, 2000, the Department published the preliminary results of administrative review of the antidumping duty order on MTPs from Japan (65 FR 11764). We invited parties to comment on our preliminary results of review. We received comments from respondent, Komatsu, Ltd. (Komatsu). The Department has now completed this administrative review in accordance with section 751 of the Act.

Final Recission in Part of Antidumping Administrative Review

On April 12, 1999, we received a letter from Hitachi Zosen indicating that there were no entries of subject merchandise during the period of review (POR). On June 28, 1999, the petitioner withdrew its request for an administrative review with respect to Ishikawajima Harima Heavy Industries (IHI). On August 25, 1999, we requested that the U.S. Customs Service (Customs) contact us if they were suspending liquidation of entries of the subject merchandise during the period of review from Hitachi Zosen Corporation (Hitachi Zosen). We have received no such response. Therefore, we conclude that there have been no entries of subject merchandise made by Hitachi Zosen during the POR, and, thus, are rescinding the review with respect to Hitachi Zosen and IHI. See Mechanical Transfer Presses from Japan: Preliminary Results and Recission in Part of Antidumping Duty Administrative Review, March 6, 2000 (65 FR 11764).

Scope of Review

Imports covered by this review include MTPs currently classifiable under Harmonized Tariff Schedule (HTS) item numbers 8462.99.0035 and 8466.94.5040. The HTS subheadings are provided for convenience and Customs purposes only. The written description of the scope of this order is dispositive.

The term “mechanical transfer presses” refers to automatic metal-forming machine tools with multiple die stations in which the work piece is moved from station to station by a transfer mechanism designed as an integral part of the press and synchronized with the press action, whether imported as machines or parts suitable for use solely or principally with these machines. These presses may be imported assembled or unassembled. This review does not cover certain parts and accessories, which were determined to be outside the scope of the order. (See “Final Scope Ruling on Spare and Replacement Parts,” U.S. Department of Commerce, March 20, 1992; and “Final Scope Ruling on the Antidumping Duty Order on Mechanical Transfer Presses (MTPs) from Japan: Request by Komatsu, Ltd.,” U.S. Department of Commerce, October 3, 1996.)

Analysis of Comments Received

All issues raised in Komatsu's case brief in this administrative review are addressed in the “Issues and Decision Memorandum” (Decision Memo) from Joseph A. Spetrini, Deputy Assistant Secretary for AD/CVD Enforcement Group III, Import Administration, to Troy H. Cribb, Acting Assistant Secretary for Import Administration, dated July 5, 2000, which is hereby adopted by this notice. A list of the issues which Komatsu has raised and to which we have responded, all of which are in the Decision Memo, is attached to this notice as an Appendix. A complete discussion of all issues raised in this review and the corresponding recommendations are in the public memorandum which is on file in the Central Records Unit, located in the Central Records Unit, room B-099 of the main Department of Commerce Building. In addition, a complete version of the Decision Memo can be accessed directly on the Web at www.ita.doc.gov/import_admin/records/frn/. The paper copy and electronic version of the Decision Memo are identical in content.

Changes Since the Preliminary Results

Based on our analysis of comments received, we have made certain changes in the margin calculations. These changes are discussed in the relevant sections of the Decision Memo, accessible in B-099 and on the Web at www.ita.doc.gov/import_admin/records/frn/.

Final Results of Review

We determine that the following percentage weighted-average margin exists for the period February 1, 1998 through January 31, 1999:

Manufacturer/exporter | Margin (percent)
Komatsu, Ltd | 0.00

Because the weighted-average dumping margin is zero, we will instruct the Customs Service to liquidate entries made during this review period without regard to antidumping duties for the subject merchandise that Komatsu exported.

Cash Deposit Requirements

The following deposit requirements will be effective upon publication of this notice of final results of administrative review for all shipments of MTPs from Japan entered, or withdrawn from warehouse, for consumption on or after the date of publication, as provided by section 751(a)(1) of the Act: (1) The cash deposit rate for the reviewed company will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 14.51 percent. This rate is the “All Others” rate from the LTFV investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: July 5, 2000.
Troy H. Cribb,
Acting Assistant Secretary for Import Administration.

Appendix

List of Issues

1. Deduction of Movement Expenses from Starting Price

2. Double-Counting of Marine Insurance Expenses

3. Transfer Price vs. Cost for Movement and Packing Expenses

[FR Doc. 00-17647 Filed 7-11-00; 8:45 am]

BILLING CODE 3510-DS-P